Title 3—

The President

Proclamation 10257 of September 14, 2021

National Hispanic Heritage Month, 2021

By the President of the United States of America

A Proclamation

During National Hispanic Heritage Month, we recognize that Hispanic heritage is American heritage. We see it in every aspect of our national life: on our television and movie screens, in the music that moves our feet, and in the foods we enjoy. We benefit from the many contributions of Hispanic scientists working in labs across the country to help us fight COVID-19 and the doctors and the nurses on the front lines caring for people's health. Our Nation is represented by Hispanic diplomats who share our values in countries all over the world and strengthened by military members and their families who serve and sacrifice for the United States. Our communities are represented by Hispanic elected officials, and our children are taught by Hispanic teachers. Our future will be shaped by Hispanic engineers who are working to develop new technology that will help us grasp our clean energy future and by the skilled union workers who are going to build it.

National Hispanic Heritage Month is an important reminder of how much strength we draw as a Nation from our immigrant roots and our values as a Nation of immigrants. I am proud to recognize my four Hispanic Cabinet Secretaries—Secretary of Health and Human Services Xavier Becerra, Secretary of Homeland Security Alejandro Mayorkas, Secretary of Education Miguel Cardona and Small Business Administrator Isabel Guzman—who are all leading executive departments that oversee critical components of American life. My Administration is focused on making equity a priority and ensuring that Hispanics are front and center in our efforts to improve the lives of working families across the country.

During National Hispanic Heritage Month, we also recognize that America cannot succeed unless Hispanic families and communities succeed, sharing equally in the benefits of our recovery and our investments. My American Rescue Plan provided much-needed relief to the Hispanic community during the pandemic. Additional Paycheck Protection Program funding for small businesses and rental assistance has helped families stay in their homes, and the child tax credit is helping lift Hispanic children out of poverty.

A critical key to building back better is ensuring that Hispanic communities also benefit from investments in roads, clean water, and broadband as well as access to early education and other resources that support working families and improve educational outcomes. We must also continue the fight to protect the sacred right to vote and provide a pathway to citizenship for undocumented Hispanics—especially Dreamers, Temporary Protected Status holders, farmworkers, and essential workers—through desperately needed immigration reform. Creating a pathway to citizenship is a top priority for my Administration not only because this benefits our Nation's economy but also because it is the right thing to do.

As we honor and celebrate the contributions of Hispanics to our Nation, we also reaffirm our commitment to extending the hand of friendship to Latin America and strengthening democracy in the region. My Administration has sent over 5 million doses of the COVID-19 vaccine to Mexico with millions more on the way. We have donated over 33 million doses of the vaccine to 21 other countries in Latin America. This included the first doses of the vaccine to reach Haiti, carried there by the United States Coast Guard. This vaccine will help protect Haiti's first responders and health care workers.

In recognition of the achievements of Hispanics, the Congress, by Public Law 100-402, as amended, has authorized and requested the President to issue annually a proclamation designating September 15 through October 15 as “National Hispanic Heritage Month.”

NOW, THEREFORE, I, JOSEPH R. BIDEN JR., President of the United States of America, by virtue of the authority vested in me by the Constitution and the laws of the United States, do hereby proclaim September 15 through October 15, 2021, as National Hispanic Heritage Month. I call upon public officials, educators, librarians, and all Americans to observe this month with appropriate ceremonies, activities, and programs.

IN WITNESS WHEREOF, I have hereunto set my hand this fourteenth day of September, in the year of our Lord two thousand twenty-one, and of the Independence of the United States of America the two hundred and forty-sixth.

[FR Doc. 2021-20345

Filed 9-16-21; 11:15 am]

Billing code 3295-F1-P